DEPARTMENT OF COMMERCE

National Oceanic and Atmospheric Administration

Mid-Atlantic Fishery Management Council (MAFMC); Fisheries of the Northeastern United States; Public Meetings

AGENCY: National Marine Fisheries Service (NMFS), National Oceanic and Atmospheric Administration (NOAA), Commerce.

ACTION: Notice of public scoping meetings.

SUMMARY: The Mid-Atlantic Fishery Management Council will hold five scoping hearings in June 2015 related to blueline tilefish management. The Council is considering developing a fishery management plan (FMP) for blueline tilefish and/or other deepwater species, or adding blueline tilefish to the existing golden tilefish FMP. There will also be a separate written comment period for Amendment scoping, which will be described in an upcoming Federal Register announcement as a “Notice of Intent (NOI)” to potentially develop an EIS that accompanies the Amendment. That NOI will also contain information regarding these scoping hearings, but to provide the public with sufficient advance notice of the hearings, this notice is being published now since the NOI will likely publish shortly before these hearings.

DATES: The meetings will be held over several weeks between June 1, 2015 and June 18, 2015 as described in SUPPLEMENTARY INFORMATION below.

ADDRESSES: See SUPPLEMENTARY INFORMATION for locations.

Council address: Mid-Atlantic Fishery Management Council, 800 N. State St., Suite 201, Dover, DE 19901; telephone: (302) 674-2331.

Comments: Comments will be taken at all scoping hearings. A separate Federal Register announcement will be published soon that provides additional information on how to make written comments.

FOR FURTHER INFORMATION CONTACT: Christopher M. Moore, Ph.D., Executive Director, Mid-Atlantic Fishery Management Council; telephone: (302) 526-5255. The Council's Web site, www.mafmc.org (see “Upcoming Events”) also has details on the meeting locations and background materials. A scoping informational document and presentation recording will be posted to http://www.mafmc.org/actions/blueline-tilefish no later than May 26, 2015.

SUPPLEMENTARY INFORMATION: There will be five scoping meetings with the following dates/times/locations:

1. Monday, June 1, 2015, 6 p.m., Hyatt Place Long Island/East End, 451 E. Main St., Riverhead, NY 11901; telephone: (631) 208-0002.

2. Tuesday, June 2, 2015, 6 p.m., Congress Hall Hotel, 251 Beach Ave., Cape May, NJ 08204; telephone: (888) 944-1816.

3. Tuesday, June 16, 2015, 6 p.m., Dare County Administration Building, Commissioners Meeting Room, 954 Marshall C. Collins Drive, Manteo, NC 27954; telephone: (252) 475-5700.

4. Wednesday, June 17, 2015, 6 p.m., Hilton Virginia Beach Oceanfront, 3001 Atlantic Ave., Virginia Beach, VA 23451; telephone: (757) 213-3000.

5. Thursday, June 18, 2015, 5 p.m., Ocean City Chamber of Commerce, Eunice Q. Sorin Visitor & Conference Center, 12320 Ocean Gateway, Ocean City, MD 21842; telephone: (410) 213-0552.

The South Atlantic Fishery Management Council (SAFMC) manages blueline tilefish south of Virginia, but there is currently (as of May 11, 2015) no management of blueline tilefish in Federal waters north of North Carolina. Virginia and Maryland have instituted regulations for state waters, but catches in any Federal waters north of North Carolina may be landed from Delaware north without restriction. Blueline tilefish are susceptible to overfishing due to their biology (relatively long-lived, sedentary, slow growing, and late maturing) so the Council is considering developing management measures. These potential measures could be considered via an amendment to the Council's golden tilefish FMP, or a new FMP for blueline tilefish and/or other deep-water fish such as sand tilefish, snowy grouper, and black-bellied rosefish. Management measures could include a definition of the management unit, as well as acceptable biological catches, annual catch limits, trip limits, essential fish habitat, etc.

For waters north of North Carolina, in response to recent catch increases the Council has already requested that NMFS take emergency action to implement a 300 pound (whole weight) commercial trip limit and a seven fish per-person recreational possession limit. This request was the result of a February 25, 2015 Council Meeting, the details of which may be found at: http://www.mafmc.org/briefing/2015/february-2014-blueline-tilefish-webinar-meeting. These emergency measures are intended to prevent depletion of blueline tilefish off the Mid-Atlantic on an interim basis (for a maximum of 360 days) while the Council develops long-term management measures through the normal rulemaking process. NMFS has not decided whether and/or how to respond to the Council's request.

Through the SAFMC's Amendment 32 (http://sero.nmfs.noaa.gov/sustainable_fisheries/s_atl/sg/2014/am32/), NMFS implemented a 112 pound (whole weight) commercial trip limit and a one fish per boat per trip recreational trip limit (with a limited season) for the South Atlantic management unit that extends to waters off the North Carolina/Virginia border. The SAFMC has also requested that the Amendment 32 limits be extended north for all Federal waters off the U.S. East Coast via an emergency rule. The outcome of the Mid-Atlantic Fishery Management Council's and SAFMC's emergency requests was not known at the time this notice was submitted. However, because any emergency rule can only be in effect for a maximum of 360 days, the Council is moving ahead with scoping for an amendment to develop long-term management and conservation measures for blueline tilefish off the Mid-Atlantic through the normal rule-making process.

This is the first and best opportunity for members of the public to raise concerns related to the scope of issues that will be considered in the Amendment. The Council needs your input both to identify management issues and develop effective alternatives. Your comments early in the amendment development process will help us address issues of public concern in a thorough and appropriate manner. Comment topics could include the scope of issues in the amendment, concerns and potential alternatives related to blueline tilefish management, and the appropriate level of environmental analysis. Comments can be made during the scoping hearings as detailed above or in writing once the official NOI publishes. After scoping, the Council plans to develop a range of management alternatives to be considered and prepare a draft Environmental Impact Statement (DEIS) and/or other appropriate environmental analyses. These analyses will consider the impacts of the management alternatives being considered. Following a review of any comments on the draft analyses, the Council will then choose preferred management measures for submission with a Final EIS or Environmental Assessment to the Secretary of Commerce for publishing of a proposed and then final rule, both of which have additional comment periods.

Special Accommodations

These meetings are physically accessible to people with disabilities. Requests for sign language interpretation or other auxiliary aid should be directed to M. Jan Saunders, (302) 526-5251, at least 5 days prior to the meeting date.

Dated: May 12, 2015.
Tracey L. Thompson,
Acting Deputy Director, Office of Sustainable Fisheries, National Marine Fisheries Service.

[FR Doc. 2015-11759 Filed 5-14-15; 8:45 am]

BILLING CODE 3510-22-P